DEPARTMENT OF ENERGY

Federal Energy Regulatory Commission

Notice of Revocation of Market-Based Rate Authority and Termination of Electric Market-Based Rate Tariff

| Docket Nos.
Electric Quarterly Reports | ER02-2001-020
Palama LLC | ER10-2809-000
City Power Marketing, LLC | ER10-3157-000
Oracle Energy Services, LLC | ER11-2436-000
EmpireCo Limited Partnership | ER11-2882-001
Allied Energy Resources Corporation | ER11-4722-000
Entra Energy LLC | ER12-1137-000
BlueRock Energy, Inc | ER12-1269-000
Power Dave Fund LLC | ER12-2217-004
ESS Lewes Project, LLC | ER17-3-001
ESS Snook Project, LLC | ER17-94-001

On February 24, 2021, the Commission issued an order announcing its intent to revoke the market-based rate authority of several public utilities that had failed to file their required Electric Quarterly Reports.¹ The Commission directed those public utilities to file the required Electric Quarterly Reports within 15 days of the date of issuance of the order or face revocation of their authority to sell power at market-based rates and termination of their electric market-based rate tariffs.²

¹ Elec. Q. Rep, 174 FERC ¶ 61,144 (2021) (February 24 Order).

² Id. at Ordering Paragraph A.

The time period for compliance with the February 24 Order has elapsed. The above-captioned companies failed to file their delinquent Electric Quarterly Reports. The Commission hereby revokes, effective as of the date of issuance of this notice, the market-based rate authority and terminates the electric market-based rate tariff of each of the companies which are named in the caption of this order.

Dated: March 31, 2021.
Kimberly D. Bose,
Secretary.

[FR Doc. 2021-07071 Filed 4-5-21; 8:45 am]

BILLING CODE 6717-01-P